EXPORT-IMPORT BANK

[Public Notice 46]

Agency Information Collection Activities: Submission for OMB Review; Comment Request

AGENCY: Export-Import Bank of the U.S.

ACTION: Submission for OMB review; comment request.

SUMMARY: In accordance with requirements of the Paperwork Reduction Act of 1995, the Export-Import Bank of the United States (Ex-Im Bank) has submitted to the Office of Management and Budget (OMB) a request to review and approve an extension of a currently approved collection described below. A request for public comment was published in 66 FR No. 85, 21976, May 2, 2001. No comments were received. This notice is soliciting comments for members of the public concerning the proposed information collection to: (1) Evaluate whether the proposed collection is necessary for the proper performance of the functions of the agency, including whether the information will have practical utility; (2) evaluate the accuracy of the agency's estimate of the burden of the proposed collection of information; (3) minimize the burden of collection of information for those who are to respond; including through the use of appropriate automated collection techniques or other forms of information technology, e.g., permitting electronic submission of responses.

DATES: Interested persons are invited to submit comments on or before July 31, 2001.

ADDRESSES: Comments and recommendations concerning the submission should be sent to Mr. David Rostker, Office of Management and Budget, Office of Information and Regulatory Affairs, NEOB, Room 10202, Washington, DC 20503.

FOR FURTHER INFORMATION CONTACT: Copies of these submissions and any additional information may be obtained from Carlista D. Robinson, Export-Import Bank of the U.S., 811 Vermont Avenue, NW., Rm. 764, Washington, DC 20571, (202) 565-3351.

SUPPLEMENTARY INFORMATION: Title & Form Number: Ex-Im Bank Letter of Interest Application—EIB Form 95-9.

OMB Number: 3048-0005.

Type of Review: Reinstatement without charge, of a previously approved collection.

Need and Use: The information requested enables the applicant to provide Ex-Im Bank with the information necessary to determine eligibility for an indicative offer of support under the loan and guarantee programs.

Affected Public: Business or other for-profit.

Respondents: Entities involved in the provision of financing or arranging or financing for foreign buyers of U.S. exports.

Estimated Annual Respondents: 960.

Estimated Time Per Respondent: 20 Minutes.

Estimated Annual Burden: 310 *.

* Revised

Frequency of Response: When applying for a Letter of Interest.

Dated: June 25, 2001.
Carlista D. Robinson,
Agency Clearance Officer.

BILLING CODE 6690-01-M

[FR Doc. 01-16368 Filed 6-28-01; 8:45 am]

BILLING CODE 6690-01-C